DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Executive Subcommittee.

Time and Date:

April 28, 2009, 9 a.m.—5:30 p.m.

April 29, 2009, 9 a.m.—5:30 p.m.

Place: Marriott Wardman Park, 2660 Woodley Road, NW., Washington, DC 20008.

Status: Open.

Purpose: The NCVHS Executive Subcommittee will hold a public meeting on April 28-29, 2009 to help define and clarify the term “Meaningful Use,” a term used in the HITECH Act (part of the American Recovery and Re-invention Act [ARRA]). This hearing will obtain stakeholders' perspectives on the appropriate functional criteria for “meaningful use” of health information technology, both for the initial year of the ARRA Health IT incentive programs and the out years. The broader prospective for the inquiry is how the meaningful use of health information technology will support improvements in the quality, efficiency and safety of health care.

Contact Person for More Information: For substantive hearing information, please contact Denise Buenning at denise.buenning@cms.hhs.gov, phone 410-786-6711. The hearing will be broadcast over the Internet via the NCVHS homepage, http://www.ncvhs.hhs.gov/. Additional information about the meeting, including the agenda and questions shaping the discussions, will be posted in advance of the meeting at http://www.ncvhs.hhs.gov/, when available. Written testimony (no more than 1-2 pages in length) can be submitted to Marietta Squire at marietta.squire@cdc.hhs.gov, phone: 301-458-4524. In order for written testimony to be included in the meeting summary, it must be submitted by April 30, 2009.

Additional program information as well as summaries of meetings and a roster of Committee members may be obtained from Marjorie S. Greenberg, Executive Secretary, NCVHS, National Center for Health Statistics, Centers for Disease Control and Prevention, 3311 Toledo Road, Room 2402, Hyattsville, Maryland 20782, telephone (301) 458-4245.

Should you require reasonable accommodation, please contact the CDC Office of Equal Employment Opportunity on (301) 458-4EEO (4336) as soon as possible.

Dated: April 16, 2009.
James Scanlon,
Acting Assistant Secretary for Planning and Evaluation, Office of the Assistant Secretary for Planning and Evaluation.

[FR Doc. E9-9219 Filed 4-21-09; 8:45 am]

BILLING CODE 4151-05-P